DEPARTMENT OF JUSTICE

Office of Justice Programs

Bureau of Justice Statistics; Agency Information Collection Activities: Existing Collection; Comment Request

ACTION: Extension of Existing Collection: The Survey of Inmates in Local Jails.

The Department of Justice, Office of Justice Programs, has submitted the following information collection request for review and clearance in accordance with the Paperwork Reduction Act of 1995. Office of Management and Budget approval is being sought for the information collection listed below. This proposed collection was previously published in the Federal Register on May 31, 2001 Volume 66, page 29590, allowing for a 60-day public comment period.

The purpose of this notice is to allow an additional 30 days for public comments. Comments are encouraged and will be accepted until August 30, 2001. This process is conducted in accordance with 5 CFR 1320.10.

Written comments and suggestions from the public and affected agencies concerning the proposed collection of information should address one or more of the following four points;

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic mechanical, or other technological collection techniques or other forms of information technology, e.g., permitting electronic submissions of responses.

Overview of This Information Collection

(1) Type of Information Collection: Reinstatement with changes of a previously approved collection for which approval has expired.

(2) Title of the Form/Collection: The National Survey of Inmates in Local Jails.

(3) Agency form number, if any, and the applicable component of the Department of Justice sponsoring the collection: Forms: SIJ-43(X) CAPI instrument; and SIJ-50(X) Sampling Questionnaire. Corrections Statistics, Bureau of Justice Statistics, Office of Justice Programs, United States Department of Justice.

(4) Affected public who will be asked or required to respond, as well as a brief abstract: Individuals and households. Others: State and local governments. The national survey will include an estimated 7,500 personal interviews with inmates held in local facilities. The national survey will include a CAPI questionnaire, automated data control systems, and sample selection instruments. This is a national survey that will profile jail inmates nationwide to determinate trends in inmate composition, criminal history, drug abuse, mental and medical status, gun use and crime, and to report on victims of crime. This national survey will allow us to identify problems and to make improvements prior to the national survey to ensure an accurate data set. The data from the national survey will be used by the Bureau of Justice Statistics in published reports and the U.S. Congress, Executive Office of the President, practitioners, researchers, students, the media, and others interested in criminal justice statistics. No other collection series provides these data.

(5) An estimate of the total number of respondents and the amount of time estimated for an average respondent to respond. An estimated 8,420 respondents—7,500, taking an average 1.0 hours to respond; 460 at ¼ an hour; and 460 at ¼ an hour to respond.

(6) An estimate of the total public burden (in hours) associated with the collection: There are 7,730 burden hours associated with this information collection.

If you have additional comments, suggestions, or need a copy of the proposed information collection instrument with instruction, or additional information, please contact Mrs. Brenda E. Dyer, Deputy Clearance Officer, United States Department of Justice, Information Management and Security Staff, Justice Management Division, Suite 1600, Patrick Henry Building, 601 D Street, NW., Washington, DC 20530.

Dated: July 26, 2001.
Brenda E. Dyer,
Department Deputy Clearance Officer, Department of Justice.

[FR Doc. 01-19070 Filed 7-30-01; 8:45 am]

BILLING CODE 4410-18-M